DEPARTMENT OF STATE

[Public Notice: 11398]

Notice of Renewed Charter for the Title VIII Advisory Committee

ACTION: Notice of renewal.

In accordance with the provisions of the Federal Advisory Committee Act (Pub. L. 92-463), the Department of State renewed the Charter for the Advisory Committee for the Study of Eastern Europe and the Independent States of the Former Soviet Union (Title VIII Advisory Committee).

The Advisory Committee was established under the authority of 22 U.S.C. 4503 to provide advice and recommendations to the Secretary of State or his or her designated representative concerning implementation of the Research and Training for Eastern Europe and the Independent States of the Former Soviet Union Act of 1983, Public Law 98-164, as amended. The renewed charter was filed with Congress on March 26, 2021, per statute.

Sidni J. Dechaine,
Designated Federal Officer, Advisory Committee for the Program for the Study of Eastern Europe and the Independent States of the Former Soviet Union.

[FR Doc. 2021-07155 Filed 4-6-21; 8:45 am]

BILLING CODE 4710-32-P